FEDERAL COMMUNICATIONS COMMISSION

47 CFR Part 73

[DA 04-500, MB Docket No. 03-213, RM-10794]

Television Broadcast Service; Saranac Lake, NY

AGENCY: Federal Communications Commission.

ACTION: Final rule.

SUMMARY: The Commission, at the request of Channel 61 Associates, LLC, substitutes channel 40 for channel 61− at Saranac Lake, New York. See 68 FR 62047, October 31, 2003. TV channel 40 can be allotted to Saranac Lake with a plus offset in compliance with the minimum distance separation requirements of Sections 73.610 and 73.698 of the Commission's Rules. Since the community of Saranac Lake is located within 400 kilometers of the U.S.-Canadian border, concurrence from the Canadian government was obtained for this allotment. The coordinates for channel 40+ are 44-09-35 N. and 74-28-34 W. With this action, this proceeding is terminated.

DATES: Effective April 19, 2004.

FOR FURTHER INFORMATION CONTACT: Pam Blumenthal, Media Bureau, (202) 418-1600.

SUPPLEMENTARY INFORMATION: This is a synopsis of the Commission's Report and Order, MB Docket No. 03-213, adopted February 25, 2004, and released March 3, 2004. The full text of this document is available for public inspection and copying during regular business hours in the FCC Reference Information Center, Portals II, 445 12th Street, SW., Room CY-A257, Washington, DC 20554. This document may also be purchased from the Commission's duplicating contractor, Qualex International, Portals II, 445 12th Street, SW., Room CY-B402, Washington, DC 20554, telephone 202-863-2893, facsimile 202-863-2898, or via-e-mail qualexint@aol.com.

List of Subjects in 47 CFR Part 73

Television broadcasting.

Part 73 of Title 47 of the Code of Federal Regulations is amended as follows:

PART 73—[AMENDED]

1. The authority citation for Part 73 continues to read as follows:

Authority: 47 U.S.C. 154, 303, 334 and 336.

§ 73.606 [Amended]

2. Section 73.606(b), the Table of Television Allotments under New York, is amended by removing TV channel 61− and adding TV channel 40+ at Saranac Lake.

Federal Communications Commission.
Barbara A. Kreisman,
Chief, Video Division, Media Bureau.

[FR Doc. 04-6321 Filed 3-19-04; 8:45 am]

BILLING CODE 6712-01-P